DEPARTMENT OF JUSTICE

Notice of Lodging of Proposed Consent Decree Under the Clean Air Act

On January 15, 2025, the Department of Justice lodged a proposed Consent Decree with the United States District Court for the Eastern District of Michigan in United States v. Hino Motors, Ltd., Hino Motors Manufacturing U.S.A., Inc., and Hino Motor Sales U.S.A., Inc., (“Defendants”) Civil Action No. 2:25-cv-10144.

The United States, on behalf of the Environmental Protection Agency (“EPA”), filed a Complaint in this lawsuit seeking civil penalties and injunctive relief from Defendants for alleged violations of title II of the Clean Air Act, as amended, 42 U.S.C. 7521-7590, and the regulations promulgated thereunder, which aim to protect human health and the environment by reducing emissions of nitrogen oxides (“NOX”) and other pollutants from mobile sources of air pollution, including new engines for motor vehicles and nonroad equipment. The State of California has filed a separate Complaint alleging corresponding claims for civil penalties and injunctive relief against Defendants under the Clean Air Act's citizen suit provisions, 42 U.S.C. 7404(a)(1), and California laws and regulations.

When the United States' Complaint was filed, the United States also lodged a proposed Consent Decree among the United States on behalf of EPA, the People of the State of California on behalf of the the California Air Resources Board, and Defendants (the “Joint Consent Decree”). If approved by the Court, the Joint Consent Decree would resolve the claims against Defendants in the United States' Complaint on behalf of EPA, as well as related claims by U.S. Customs and Border Patrol and the National Highway Transportation and Safety Administration. The Joint Consent Decree would also partially resolve the claims against Defendants in the California Complaint. On January 15, 2025, California filed a separate proposed Consent Decree between Defendants and California (the “California Partial Consent Decree”). The California Partial Consent Decree would resolve the remaining claims in the California Complaint.

The Joint Consent Decree would require Defendants to: (i) pay a civil penalty of $525,000,000; (ii) take steps to remedy the alleged violations, including conducting a vehicle recall program to modify model year 2017-2019 J05E and J08E truck engines; (iii) implement a corporate compliance program; and (iv) perform mitigation projects to offset 100% of the excess NOX and other pollutant emissions caused by Defendants' violations.

The California Partial Consent Decree would resolve California state claims for a proportional amount of the civil penalty recovered under the Joint Consent Decree and for an additional payment for a mitigation program in California administered by the California Air Resources Board.

The publication of this notice opens a period for public comment on the Consent Decree. Comments should be addressed to the Assistant Attorney General, Environment and Natural Resources Division, and should refer to United States v. Hino Motors, Ltd., et al., D.J. Ref. No. 90-5-2-1-12485. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the proposed Consent Decree may be examined and downloaded at this Justice Department website: https://www.justice.gov/enrd/consent-decrees. If you require assistance accessing the proposed Consent Decree, you may request assistance by email or by mail to the addresses provided above for submitting comments.

Eric D. Albert,
Assistant Section Chief, Environmental Enforcement Section, Environment and Natural Resources Division.

[FR Doc. 2025-01481 Filed 1-21-25; 8:45 am]

BILLING CODE 4410-15-P